FEDERAL COMMUNICATIONS COMMISSION

[MB Docket No. 04-144; DA 04-957]

Piscataway Board of Education and King's Temple Ministries, Inc.

AGENCY: Federal Communications Commission.

ACTION: Notice.

SUMMARY: This document designates the application of Piscataway Board of Education for renewal of license of WVPH(FM), Piscataway, New Jersey, and the mutually exclusive application of King's Temple Ministries, Inc. for authority to construct a new NCE FM station on Channel 212 in Plainfield, New Jersey, for an expedited hearing limited solely to the issue of sharing time.

DATES: Petitions by persons desiring to participate as a party in the hearing may be filed not later than May 28, 2004. See Supplementary Information section for dates that named parties should file appearances.

ADDRESSES: Please file documents with the Investigations and Hearings Division, Enforcement Bureau, Federal Communications Commission, Room 3-B443, 445 12th Street, SW., Washington, DC 20554.

FOR FURTHER INFORMATION CONTACT: James Shook, Special Counsel, Investigations and Hearings Division, Enforcement Bureau at (202) 418-1448; Helen McLean, Attorney-Advisor, Audio Division, Media Bureau at (202) 418-2738; or Nina Shafran, Deputy Chief, Audio Division, Media Bureau at (202) 418-2781.

SUPPLEMENTARY INFORMATION: This is a summary of the Hearing Designation Order, DA 04-957, released April 9, 2004. The full text of the Hearing Designation Order is available for inspection and copying during normal business hours in the FCC Reference Information Center, Room CY-A257, 445 12th Street, SW., Washington, DC 20554. The complete text may be purchased from the Commission's copy contractor, Qualex International, 445 12th Street, SW., Room CY-B402, Washington, DC 20554. Alternative formats are available to persons with disabilities by contacting Martha Contee at (202) 418-0260 or TTY (202) 418-2555.

Synopsis of the Order

1. Pursuant to 47 CFR 73.561(b), new noncommercial educational FM station applicants can propose to share time in response to renewal applications from noncommercial educational licensees that do not operate their stations at least 12 hours per day each day of the year. Pursuant to 47 CFR 73.561(b)(2), the Commission is required to order an expedited hearing on the issue of sharing time if the parties are unable to reach an agreement on sharing time, and if no qualifications issues arise regarding the renewal or new station applicant. The designation for an expedited hearing is not intended to preclude the applicants, either before the commencement of the hearing or at any time during the course of the hearing, from negotiating a time sharing agreement.

2. The staff has granted conditionally the WVPH license renewal application and the application to construct a new station in Plainfield. The grants are subject to the conditions that (1) either (a) the parties negotiate and jointly file with the Commission a time sharing agreement, or (b) the hearing ordered in this document, at a time and place to be specified in a subsequent Order, is concluded, and a copy of the resulting written time sharing arrangement is provided to the Chief of the Commission's Audio Division, Media Bureau; and (2) the authorizations of Piscataway Board of Education and King's Temple Ministries, Inc. are modified in accordance with the terms and conditions of either the negotiated time sharing agreement or the time sharing arrangement imposed as a result of the hearing.

3. A time sharing arrangement, whether negotiated by the parties or determined in the hearing, shall become effective as of the date on which King's Temple Ministries, Inc. files an application for a license to cover its construction permit and begins program tests, and shall become part of the terms of each station's license by attachment thereto.

4. Pursuant to 47 CFR 1.221(b), the Commission's Consumer and Governmental Affairs Bureau, Reference Information Center, shall send copies of this Order, by certified mail, return receipt requested, to the parties through counsel. To avail themselves of the opportunity to be heard, Piscataway Board of Education and King's Temple Ministries, Inc., pursuant to 47 CFR 1.221(c), in person or by their respective attorneys, must within twenty (20) days of the mailing of the Order, file in triplicate a written appearance stating an intention to appear on the date fixed for the hearing and present evidence on the issues specified in this Order. Piscataway Board of Education and King's Temple Ministries, Inc., pursuant to 47 CFR 73.3594, shall give notice of the hearing within the time and in the manner prescribed in 47 CFR 73.3594, and shall advise the Commission of the publication of such notice as required by 47 CFR 73.3594(g).

Federal Communications Commission.
Peter H. Doyle,
Chief, Audio Division, Media Bureau.

[FR Doc. 04-9640 Filed 4-27-04; 8:45 am]

BILLING CODE 6712-01-P